NUCLEAR REGULATORY COMMISSION

[Docket Nos. 52-025 and 52-026; NRC-2008-0252]

Southern Nuclear Operating Company, Inc.; Vogtle Electric Generating Plant, Units 3 and 4

AGENCY: Nuclear Regulatory Commission.

ACTION: License amendment application; withdrawal by applicant.

SUMMARY: The U.S. Nuclear Regulatory Commission (NRC) has granted the request of Southern Nuclear Operating Company to withdraw its application dated July 29, 2016, for proposed amendments to Combined License (COL) Nos. NPF-91 and NPF-92 for the Vogtle Electric Generating Plant (VEGP), Units 3 and 4, respectively. The COLs were issued to Southern Nuclear Operating Company, Inc.; Georgia Power Company; Oglethorpe Power Corporation; MEAG Power SPVM, LLC; MEAG Power SPVJ, LLC; MEAG Power SPVP, LLC; and the City of Dalton, Georgia (the licensee), for construction and operation of the VEGP, Units 3 and 4, located in Burke County, Georgia. The amendments would have added an Interim Amendment Request (IAR) Process to License Condition 2.D.(1) of the VEGP, Units 3 and 4, COLs for changes during construction when emergent conditions are present.

DATES: March 20, 2018.

ADDRESSES: Please refer to Docket ID NRC-2008-0252 when contacting the NRC about the availability of information regarding this document. You may obtain publicly-available information related to this document using any of the following methods:

• Federal Rulemaking Website: Go to http://www.regulations.gov and search for Docket ID NRC-2008-0252. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. The request for amendments was submitted by letter dated July 29, 2016, and supplemented by letter dated January 5, 2017 (ADAMS Accession Nos. ML16211A436 and ML17005A514, respectively).

• NRC's PDR: You may examine and purchase copies of public documents at the NRC's PDR, Room O1-F21, One White Flint North, 11555 Rockville Pike, Rockville, Maryland 20852.

FOR FURTHER INFORMATION CONTACT: Chandu Patel, Office of New Reactors, U.S. Nuclear Regulatory Commission, Washington, DC 20555-0001; telephone: 301 415-3025; email: Chandu.Patel@nrc.gov.

SUPPLEMENTARY INFORMATION: Southern Nuclear Operating Company (the licensee) is a holder of two COLs, Nos. NPF-91 and NPF-92, issued to Southern Nuclear Operating Company, Inc.; Georgia Power Company; Oglethorpe Power Corporation; MEAG Power SPVM, LLC; MEAG Power SPVJ, LLC; MEAG Power SPVP, LLC; and the City of Dalton, Georgia, for construction and operation of VEGP, Units 3 and 4, located in Burke County, Georgia. The NRC has granted the licensee's request to withdraw its application dated July 29, 2016, as supplemented by letter dated January 5, 2017.

The proposed amendments would have added an additional license amendment process called an IAR to License Condition 2.D.(1) of the VEGP, Units 3 and 4, COLs. Based on the application and supplemental information the licensee provided, the licensee intended to use the proposed IAR process to obtain expedited approval of requested changes during construction in certain emergent conditions when the licensee finds that a construction activity is not in conformance with the licensing basis, but there is little or no safety significance, and the construction activity cannot be adjusted. The proposed IAR process would have been used to allow construction to proceed until the nonconforming condition is resolved when there is insufficient time to conduct a detailed, technical safety analysis to support a license amendment request, or the preliminary amendment request process was already approved by the Commission.

The NRC staff issued an initial Federal Register notice of opportunity to request a hearing on this license amendment request and a proposed no significant hazards consideration determination on October 11, 2016 (81 FR 70184).

Dated at Rockville, Maryland, this 13th day of March 2018.
For the Nuclear Regulatory Commission.
Jennifer L. Dixon-Herrity,
Chief, Licensing Branch 4, Division of New Reactor Licensing, Office of New Reactors.

[FR Doc. 2018-05568 Filed 3-19-18; 8:45 am]

BILLING CODE 7590-01-P